DEPARTMENT OF THE INTERIOR

Bureau of Indian Affairs

Notice of Intent To Prepare an Environmental Impact Statement for the Pueblo of Jemez's Proposed Trust Acquisition and Casino Project, Dona Ana County, NM

AGENCY: Bureau of Indian Affairs, Interior.

ACTION: Notice.

SUMMARY: This notice advises the public that the Bureau of Indian Affairs (BIA), in cooperation with the Pueblo of Jemez (Pueblo), intends to gather information necessary for preparing an Environmental Impact Statement (EIS) for a proposed 78.431 acre trust acquisition and casino project to be located within Dona Ana County, New Mexico. The purpose of the proposed action is to improve the economy of the Pueblo and help its members attain economic self-sufficiency. This notice also announces a public scoping meeting to identify potential issues and alternatives to be considered in the EIS.

DATES: Written comments on the scope of the EIS or implementation of the proposal must arrive by April 18, 2005. The public scoping meeting will be held March 16, 2005, from 7 p.m. to 9 p.m., or until the last public comment is received.

ADDRESSES: You may mail or hand carry written comments to Mr. Larry Morrin, Regional Director, Southwest Regional Office, Bureau of Indian Affairs, P.O. Box 26567, Albuquerque, NM 87125. Please include your name, return address, and the caption, “DEIS Scoping Comments, Pueblo of Jemez Trust Acquisition and Casino Project,” on the first page of your written comments.

The location of the public scoping meeting is the VFW Hall, Anthony, New Mexico.

FOR FURTHER INFORMATION CONTACT: Dawn Selwyn, (505) 563-3106.

SUPPLEMENTARY INFORMATION: The Pueblo proposes that 78.431 acres of land be taken into trust so that the Pueblo may use the property for the development of gaming and related entertainment facilities. The 78.431 acres proposed for trust acquisition are part of a 111.7 acre tract located on the southwest corner of Interstate 10 and New Mexico State Road 404 (O'Hara Road) in Dona Ana County, New Mexico.

Although the eventual size and scope of the facilities may be altered based on information obtained through the EIS process, the Pueblo's current proposal is to build and then operate for 2 years a 24,000 square foot temporary casino on acquired trust land, while building a permanent gaming facility. The permanent facility, also on acquired trust land, would have a 48,000 square feet gaming floor and would be connected to an 80 to 100 room hotel located on adjacent, non-trust land. The temporary casino would have asphalt parking for 500 vehicles that would be retained after operations begin in the permanent casino. Approximately 260 additional asphalt parking spaces, including spaces for oversized vehicles, will be added at the time the permanent casino begins operations.

The proposed action encompasses the various federal approvals required to implement the Pueblo's fee-to-trust application.

Areas of environmental concern identified so far for analysis in the EIS include land resources, water resources, air quality, biological resources, cultural resources, socioeconomic conditions, traffic and transportation, land use, public utilities and services, noise, lighting, hazardous materials, environmental justice, and visual resources/aesthetics. The range of issues and alternatives to be addressed in the EIS may be expanded based on comments received in response to this notice and at the public scoping meeting.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority: This notice is published in accordance with section 1503.1 of the Council of Environmental Quality Regulations (40 CFR Parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.l.

Dated: February 23, 2005.
Michael D. Olsen,
Acting Principal Deputy Assistant Secretary—Indian Affairs.

[FR Doc. 05-4028 Filed 2-28-05; 8:45 am]

BILLING CODE 3410-W7-P